DEPARTMENT OF COMMERCE

National Oceanic and Atmospheric Administration

Proposed Information Collection; Comment Request; U.S. Territorial Catch and Fishing Effort Limits

AGENCY: National Marine Fisheries Service (NMFS), National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 19, 2018.

ADDRESSES: Direct all written comments to Jennifer Jessup, Departmental Paperwork Clearance Officer, Department of Commerce, Room 6616, 14th and Constitution Avenue NW, Washington, DC 20230 (or via the internet at docpra@doc.gov).

FOR FURTHER INFORMATION CONTACT: Requests for additional information or copies of the information collection instrument and instructions should be directed to Walter Ikehara, NMFS Pacific Islands Regional Office, (808) 725-5175, or Walter.Ikehara@noaa.gov.

SUPPLEMENTARY INFORMATION:

I. Abstract

This request is for extension of a current information collection.

The Fishery Ecosystem Plan for Pelagic Fisheries of the Western Pacific (FEP) contains a process under the authority of the Magnuson-Stevens Fishery Conservation and Management Act to specify catch and/or fishing effort limits for management unit species caught by pelagic fisheries in the U.S. participating territories. The process allows NMFS to authorize the government of each U.S. participating territory to allocate a portion of its catch or fishing effort limit to a U.S. fishing vessel permitted under the FEP through specified fishing agreements. These agreements support fisheries development in the U.S. participating territories (see 50 CFR 665.819).

A specified fishing agreement provides access to an identified portion of a catch or fishing effort limit and may not exceed the amount specified for the territory and made available for allocation. The identified portion of a catch or fishing effort limit in an agreement must account for recent and anticipated harvest on the stock or stock complex or fishing effort, and any other valid agreements with the territory during the same year not to exceed the territory's catch or fishing effort limit or allocation limit. Each participating territory may submit a complete specified fishing agreement for review and approval by the Western Pacific Fishery Management Council and NMFS. The agreement must (a) identify the vessels and document that each fishing vessel has a valid permit issued under 50 CFR 665.801, (b) identify the limit on catch of western Pacific pelagic management unit species, if applicable, (c) identify the limit on fishing effort, if applicable, (d) be signed by an authorized official of the participating territory or designated representative, and (e) be signed by each vessel owner or designated representative.

II. Method of Collection

There is no form for an agreement. Agreements may be submitted by mail or fax.

III. Data

OMB Control Number: 0648-0689.

Form Number(s): None.

Type of Review: Regular submission (extension of a current information collection).

Affected Public: Individuals or households; business or other for-profit organizations; State or Territorial government.

Estimated Number of Respondents: 9.

Estimated Time per Response: 6 hours per agreement; 2 hours per appeal.

Estimated Total Annual Burden Hours: 56 (estimating one appeal per year)

Estimated Total Annual Cost to Public: $95 ($10 per agreement, $5 per appeal) for copying and mailing or for faxing.

IV. Request for Comments

Comments are invited on (a) whether the proposed collection of information is necessary for the proper performance of the functions of the agency, including whether the information shall have practical utility, (b) the accuracy of the agency's estimate of the burden (including hours and cost) of the proposed collection of information, (c) ways to enhance the quality, utility, and clarity of the information to be collected, and (d) ways to minimize the burden of the collection of information on respondents, including through the use of automated collection techniques or other forms of information technology.

Comments submitted in response to this notice will be summarized and/or included in the request for OMB approval of this information collection; they also will become a matter of public record.

Dated: September 13, 2018.
Sarah Brabson,
NOAA PRA Clearance Officer.

[FR Doc. 2018-20227 Filed 9-17-18; 8:45 am]

BILLING CODE 3510-22-P